COURT SERVICES AND OFFENDER SUPERVISION AGENCY FOR THE DISTRICT OF COLUMBIA

Notice of Correction

AGENCY: Court Services and Offender Supervision Agency for the District of Columbia.

ACTION: Notice; correction.

SUMMARY: The Court Services and Offender Supervision Services for the District of Columbia (CSOSA) is correcting a notice published in the October 30, 2020 issue of the Federal Register (Notice) entitled SES Performance Review Board (PRB). This correction applies to the misspelling of the name of a PRB member.

FOR FURTHER INFORMATION CONTACT: William Layne, Assistant Director, Human Capital Planning and Executive Resources, Court Services and Offender Supervision Agency for the District of Columbia, 800 North Capitol Street NW, Suite 701, Washington, DC 20005, (202) 220-5637.

Correction

1. In the Notice, the PRB member's name is listed as Victor Valentino Davis. The correct name is Victor Valentine Davis.

Dated: November 4, 2020.
Rochelle Durant,
Federal Register Liaison.

[FR Doc. 2020-24891 Filed 11-9-20; 8:45 am]

BILLING CODE 3129-04-P